ENVIRONMENTAL PROTECTION AGENCY

[FRL9675-2]

Clean Water Act Section 303(d): Withdrawal of Nine Total Maximum Daily Loads (TMDLs)

AGENCY: Environmental Protection Agency (EPA).

ACTION: Notice of Withdrawal of Nine TMDLs.

SUMMARY: The EPA hereby withdraws nine final Total Maximum Daily Loads (TMDLs) for Chloride, Sulfate, and Total Dissolved Solids (TDS) for the Bayou de L'Outre Watershed in Arkansas. The EPA withdraws the Bayou de L'Outre TMDLs due to the discovery of inconsistencies in the values used to derive the flow and load duration curves, resulting in the calculation of TMDLs which do not accurately reflect the loading capacity of the segments. This action does not affect seven other final TMDLs published under the same Federal Register notice (see 76 FR 52947) which pertain to segments 08040203-010, 08040204-006, and 08040206-015, -016, -716, -816, -916. The Agency hereby withdraws the final TMDLs pertaining to segments 08040202-006, -007, and -008 with respect to Chlorides, Sulfates and TDS.

Public Participation: EPA received five comment letters from representatives of Clean Harbors Environmental Services, Clean Harbors Environmental Services—El Dorado, El Dorado Water Utility, Great Lakes Chemical Corporation—Chemtura, and Lion Oil Company in support of the withdrawal of nine TMDLs pertaining to Bayou de L'Outre. The Agency did not receive any adverse comments relating to the withdrawal action.

SUPPLEMENTARY INFORMATION: The TMDLs were developed under EPA Contract Number 68-C-02-108. The Federal Register notice of availability, seeking public comments on the draft TMDLs, was published on December 17, 2007 (see 72 FR 71409). Public comments were received by January 16, 2008, and a response to each comment was provided. The Federal Register notice of availability for the final TMDLs was published on August 24, 2011 (see 76 FR 52947). The nine pollutant pairs for Bayou de L'Outre subject to withdrawal are as follows.

Segment (Reach) | Waterbody name | Pollutant
08040202-006 | Bayou de L'Outre | Chloride, Sulfate, TDS.
08040202-007 | Bayou de L'Outre | Chloride, Sulfate, TDS.
08040202-008 | Bayou de L'Outre | Chloride, Sulfate, TDS.

The 2008 Arkansas Clean Water Act (CWA) Section 303(d) list of impaired waters is the current EPA approved list, and includes the three Bayou de L'Outre segments addressed by this action. This action does not affect the listing of the aforementioned segments.

FOR FURTHER INFORMATION CONTACT: Diane Smith, Environmental Protection Specialist, Water Quality Protection Division, U.S. EPA Region 6, 1445 Ross Avenue, Dallas, TX 75202-2733, (214) 665-2145.

Dated: May 9, 2012.
William K. Honker,
Acting Director, Water Quality Protection Division, EPA Region 6

[FR Doc. 2012-12360 Filed 5-21-12; 8:45 am]

BILLING CODE 6560-50-P